DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee (Review Committee). The Review Committee will meet on October 30-31, 2009, in Sarasota, Florida. On October 30, the meeting will take place at David Cohen Hall, located in the Beatrice Friedman Symphony Center, 709 North Tamiami Trail, Sarasota, FL 34236 (the Friedman Symphony Center is located on Van Wezel Way, a short street that runs between Boulevard of the Arts and 10th Street, one block west of Tamiami Trail). On October 31, the meeting will take place at the Hyatt Regency Sarasota, 1000 Boulevard of the Arts, Sarasota, FL 34236.

Meeting sessions will begin at 8:30 a.m. and end at 5:00 p.m. each day. A detailed agenda for this meeting will be posted on or before September 25, 2009, at http://www.nps.gov/history/nagpra/.

The agenda for the meeting will include a report on National NAGPRA Program activities during fiscal year 2009; activity reports from the National NAGPRA Program as requested by the Review Committee; requests for recommendations regarding the disposition of culturally unidentifiable human remains; requests, pursuant to 25 U.S.C. 3006(c)(3), for reviews and findings of fact related to the identity or cultural affiliation of human remains or other cultural items, or the return of such items; disputes among Indian tribes, Native Hawaiian organizations, or lineal descendants and Federal agencies or museums relating to the return of human remains or other cultural items, pursuant to 25 U.S.C. 3006(c)(4); presentations by Indian tribes, Native Hawaiian organizations, museums, Federal agencies, and the public; and the selection of dates and a site for the fall 2010 meeting.

The Review Committee will consider the following requests: by anyone, to make a presentation; by museums and Federal agencies, to act on an agreement concerning the disposition of human remains determined to be culturally unidentifiable (CUI); by Indian tribes, Native Hawaiian organizations, lineal descendants, museums, and Federal agencies, to review and make findings of fact related to the identity or cultural affiliation of human remains or other cultural items, or the return of such items; and by Indian tribes, Native Hawaiian organizations, lineal descendants, museums, and Federal agencies, to facilitate a dispute and make findings of fact and recommendations related to the identity, cultural affiliation, or the return of human remains or other cultural items.

Requests to make a presentation must include an abstract of the presentation and contact information for the presenter(s).

Requests to act on a CUI disposition agreement should be made on the form posted on the National NAGPRA Program website, and also should include all the materials requested on the form. To access and download the form, go to www.nps.gov/history/nagpra; then click on “Review Committee;”” then click on “Procedures;” then, under “Request by a Museum/Federal Agency for a CUI Disposition Agreement,” click on the highlighted word “form.”

Requests to convene parties and hear a dispute, or otherwise review and make findings of fact related to the identity or cultural affiliation of human remains or other cultural items, or the return of such items should include -

a. The proposed questions for the Review Committee to consider.

b. A statement of facts relevant for answering the questions posed.

c. Copies of documents that are relevant for answering the questions posed.

d. A statement of the requesting party's position and reasoning for their position.

e. A list of all interested parties known to the requesting party.

f. A summary of the consultation record.

g. The findings of fact and recommendations sought from the Review Committee.

In addition, requests to convene parties and hear a dispute should include -

h. A summary of previous efforts to resolve the dispute, including, if applicable, the results of alternative dispute resolution.

i. A statement providing the requesting party's understanding of the other party's/parties' position and reasoning for their position.

The Review Committee will consider a request to convene parties and hear a dispute, or otherwise review and make findings of fact related to the identity or cultural affiliation of human remains or other cultural items, or the return of such items if the request is received on or before June 29, 2009. The Review Committee will consider a request to act on a CUI disposition agreement if the request is received on or before July 29, 2009. The Review Committee will consider a request to make a presentation if the request is received on or before August 29, 2009. Electronic submissions are preferred, and are to be sent to: David_Tarler@nps.gov. Mailed submissions are to be sent to: Designated Federal Officer, NAGPRA Review Committee, National Park Service, National NAGPRA Program, 1201 Eye Street, NW, 8th Floor (2253), Washington, DC 20005.

The transcript of the October Review Committee meeting will be available, on request, approximately fourteen weeks after the meeting. For a transcript, contact the Designated Federal Officer, at David_Tarler@nps.gov. Information about NAGPRA, the Review Committee, and Review Committee meetings, and the minutes to the meetings are available at the National NAGPRA Program website, http://www.nps.gov/history/nagpra/. For the Review Committee's meeting procedures, click on “Review Committee,” then click on “Procedures.”

The Review Committee was established in Section 8 of the Native American Graves Protection and Repatriation Act of 1990 (NAGPRA), 25 U.S.C. 3006. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Dated: April 24, 2009.
David Tarler,
Designated Federal Officer, Native American Graves Protection and Repatriation Review Committee.

[FR Doc. E9-9988 Filed 4-29-09; 8:45 am]

BILLING CODE 4312-50-S